DEPARTMENT OF COMMERCE

National Oceanic and Atmospheric Administration

Agency Information Collection Activities; Submission to the Office of Management and Budget (OMB) for Review and Approval; Comment Request; Socio-Economic Survey of Hired Captains and Crew in New England, Mid-Atlantic, South Atlantic, and Gulf of Mexico Commercial Fisheries

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 8, 2024.

ADDRESSES: Interested persons are invited to submit written comments to Adrienne Thomas, NOAA PRA Officer, at NOAA.PRA@noaa.gov. Please reference OMB Control Number 0648-0636 in the subject line of your comments. Do not submit Confidential Business Information or otherwise sensitive or protected information.

FOR FURTHER INFORMATION CONTACT: Requests for additional information or specific questions related to collection activities should be directed to Dr. Matthew J. Cutler, Social Scientist, NOAA/Northeast Fisheries Science Center, 166 Water St., Woods Hole, MA 02543, (508-495-4731), matthew.cutler@noaa.gov.

SUPPLEMENTARY INFORMATION:

I. Abstract

This request is for an extension to an approved collection. This collection is currently approved for implementation in the New England, Mid-Atlantic, South Atlantic and Gulf of Mexico regions by NOAA National Marine Fisheries Service, Northeast Fisheries Science Center's Social Sciences Branch (NEFSC-SSB) and Southeast Fisheries Science Center Social Science Research Group (SEFSC-SSRG). The NEFSC and SEFSC seek to conduct surveys to provide for the ongoing collection of social and economic data related to the fishing industries in those states. The purpose of this survey is to assess and track over time the social and economic conditions of commercial fishing crews and hired captains for which little is known. This survey will provide data on social and economic impacts for this population and the changes in fisheries because of regulatory changes. Data to be collected include demographic information on crew, individual and community well-being, fishing practices, job satisfaction, job opportunities, and attitudes toward fisheries management.

The National Environmental Policy Act (NEPA) and Magnuson-Stevens Conservation and Management Act (MSA) both contain requirements for considering the social and economic impacts of fishery management decisions. There is a need to understand how such fishery management policies and programs will affect the social and economic characteristics of those involved in the commercial fishing industry. To help meet these requirements of NEPA and MSA, the NEFSC and SEFSC will collect data on an ongoing basis to track how socio-economic characteristics of fisheries are changing over time and the impact of fishery management policies and programs implemented in New England, Mid-Atlantic, South Atlantic and Gulf of Mexico regions.

II. Method of Collection

This information will be collected through in-person intercept interviews.

III. Data

OMB Control Number: 0648-0636.

Form Number(s): None.

Type of Review: Regular submission [extension of a current information collection].

Affected Public: Individuals, households; business or other for-profit organizations.

Estimated Number of Respondents: 924.

Estimated Time Per Response: 15 minutes.

Estimated Total Annual Burden Hours: 231 hours.

Estimated Total Annual Cost to Public: $0.

Respondent's Obligation: Voluntary.

Legal Authority: MSA and NEPA.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-09881 Filed 5-6-24; 8:45 am]

BILLING CODE 3510-22-P